DEPARTMENT OF ENERGY

Federal Energy Regulatory Commission

[Docket No. RP03-560-000]

OkTex Pipeline Company; Notice of Compliance Filing

August 12, 2003.

Take notice that on August 8, 2003, OkTex Pipeline Company (OkTex), filed revised tariff sheets in compliance with the Commission's directives in Order No. 587-R.

OkTex states that the tariff sheets reflect the changes to OkTex's tariff that result from the North American Standards Board's (NAESB) consensus standards that were adopted by the Commission in its March 12, 2003 Order No. 587-R in Docket No. RM96-1-024. OkTex states that it will implement the NAESB consensus standards for July 1, 2003 business, and the revised tariff sheets therefore reflect an effective date of July 1, 2003.

OkTex states that copies of the filing have been mailed to all affected customers and state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 19, 2003.

Magalie R. Salas,
Secretary.

[FR Doc. 03-21101 Filed 8-15-03; 8:45 am]

BILLING CODE 6717-01-P